FEDERAL COMMUNICATIONS COMMISSION

[DA 02-2578]

Commission Releases Agenda for Public Forum on Rights-of-Way Issues

ACTION: Notice.

SUMMARY: This document announces the agenda for the public forum on rights-of-way issues to be held on October 16, 2002.

DATES: The public forum on rights-of-way management will be held on October 16, 2002 from 9:15 a.m. to 3:30 p.m.

ADDRESSES: The public forum on rights-of-way management will be held at the FCC's headquarters, 445 12th Street, SW., Washington, DC, in the Commission Meeting Room.

FOR FURTHER INFORMATION CONTACT: Kris Monteith or Gene Fullano, Consumer & Government Affairs Bureau, (202) 418-1400, kmonteit@fcc.gov or gfullano@fcc.gov.

SUPPLEMENTARY INFORMATION: The Public Forum is aimed at facilitating discussion among local authorities, state regulators, and the industry to develop consensus positions where possible. The forum will strive to, among other things, identify principles and practices that all parties believe can be a model for access to and management of rights-of-way with respect to the communications industry. The following agenda provides the names and affiliations of the invited panelists.

9:15 a.m.-10 a.m.

Welcome and Introduction

K. Dane Snowden, Chief, Consumer & Governmental Affairs Bureau, FCC Chairman and Commissioners

10 a.m.-11 a.m.

The Jurisdictional Question: Local vs. Federal Authority

Introduction—Background, historical perspective on rights-of-way issues, and status of court challenges. Panel discussion on the scope of Federal authority under Section 253 of the Communications Act.

Moderator: Jane Mago, General Counsel, Office of General Counsel

Panelists

Lisa Gelb, Deputy City Attorney, San Francisco, California

Chris Melcher, Corporate Counsel, Qwest Communications

Pam Beery, Partner, Beery & Elsner

Teresa Marrero, Manager, Federal Rights-of-Way Issues, AT&T

11 a.m.-11:15 a.m.

Break

11:15 a.m.-12:30 p.m.

Fair and Reasonable Compensation for Use of Rights-of-Way

Panel discussion on compensation issues including cost-based, percentage of revenue, and in-kind compensation approaches.

Moderator: Bill Maher, Chief, Wireline Competition Bureau

Panelists

Sandy Sakamoto, Assistant General Counsel and Assistant Attorney SBC/Pacific Telesis

Don Knight, Assistant City Attorney, Dallas, Texas

Kelsi Reeves, Vice President of Federal Government Relations Time Warner Telecom

Larry Doherty, Director, Site Development, West Region, Sprint PCS

Barry Orton, Professor of Telecommunications, University of Wisconsin—Madison

12:30 p.m.-2 p.m.

Lunch Break

2 p.m.-2:30 p.m.

Perspectives from the Administration

Nancy Victory, Assistant Secretary for Communications and Information, U.S. Department of Commerce

2:30 p.m.-3:30 p.m.

Looking Ahead: Policy Approaches to Rights-of-Way Management

Panel discussion on how best to accommodate the interests of multiple stakeholders.

Moderator: Ken Ferree, Chief, Media Bureau

Panelists

Ken Fellman, Mayor, Arvada, Colorado

Dorian Denburg, Chief Rights-of-Way Counsel, BellSouth Corporation

Bob Chernow, Chair, Regional Telecom Commission

Alexandra Wilson, Chief Policy Counsel, Cox Enterprises

Bob Nelson, Commissioner, Michigan Public Utility Commission

3:30 p.m.

Closing

K. Dane Snowden, Chief, Consumer & Governmental Affairs Bureau

The forum will be closed captioned and will be carried live on the Internet through RealAudio from the FCC Web site at: http://www.fcc.gov/realaudio/. A transcript of the forum will be available 10 business days after the event on the FCC's Internet site at http://www.fcc.gov/cgb/row.html. Transcripts may also be obtained from the FCC's duplicating contractor, Qualex International, 445 12th St., SW., Room CY-B402, Washington, DC 20554, telephone 202-863-2893, facsimile 202-863-2898, or via e-mail qualexint@aol.com. Audio and video tapes of the forum can be purchased from CACI Productions (formerly Infocus Media), 341 Victory Drive, Herndon, VA 20170, by calling CACI at (703) 834-1470 or by faxing CACI at (703) 834-0111. The meeting agenda will be provided in accessible formats. The meeting site is fully accessible to people using wheelchairs or other mobility aids. Copies of the transcript in other alternative formats (computer diskette, large print, and Braille) are available to persons with disabilities by contacting Brian Millin (202) 418-7426 voice, (202) 418-7365 TTY, or bmillin@fcc.gov. Send requests for reasonable accommodations to fcc504@fcc.gov, or contact Helen Chang, Section 504 Officer, 202-418-0424, 202-418-0432 TTY, or hchang@fcc.gov. Also include a way of contacting you if we need more information. Please submit your request at least 5 days in advance so that we can assure provision of the service you require. Participants and attendees are reminded of the Commission's ex parte rules and are responsible for complying with those rules to the extent their comments address the merits of pending proceedings.

Federal Communications Commission.
Marlene H. Dortch,
Secretary.

[FR Doc. 02-26430 Filed 10-16-02; 8:45 am]

BILLING CODE 6712-01-P